DEPARTMENT OF ENERGY

Federal Energy Regulatory Commission

Combined Notice of Filings

Take notice that the Commission has received the following Natural Gas Pipeline Rate and Refund Report filings:

Filings Instituting Proceedings

Docket Numbers: PR24-50-000.

Applicants: BBT Mississippi, LLC.

Description: 284.123 Rate Filing: BBT Mississippi SOC Filing to be effective 2/1/2024.

Filed Date: 2/1/24.

Accession Number: 20240201-5117.

Comment Date: 5 p.m. ET 2/22/24.

Docket Numbers: RP24-380-000.

Applicants: Texas Gas Transmission, LLC.

Description: 4(d) Rate Filing: Amendment to Neg Rate Agmts (PennEnergy 37579, 37580) to be effective 2/1/2024.

Filed Date: 2/1/24.

Accession Number: 20240201-5102.

Comment Date: 5 p.m. ET 2/13/24.

Docket Numbers: RP24-381-000.

Applicants: Sabine Pipe Line LLC.

Description: 4(d) Rate Filing: Normal filing Feb 2024—7.26-4.6 to be effective 2/1/2024.

Filed Date: 2/1/24.

Accession Number: 20240201-5107.

Comment Date: 5 p.m. ET 2/13/24.

Docket Numbers: RP24-382-000.

Applicants: Dogwood Energy LLC, Missouri Joint Municipal Electric Utility Commission.

Description: Joint Petition for Temporary Waivers of Capacity Release Regulations, et al. of Dogwood Energy LLC, et al.

Filed Date: 2/1/24.

Accession Number: 20240201-5114.

Comment Date: 5 p.m. ET 2/13/24.

Docket Numbers: RP24-383-000.

Applicants: Trailblazer Pipeline Company LLC.

Description: 4(d) Rate Filing: TPC 2024-02-01 Negotiated Rate Agreement to be effective 2/1/2024.

Filed Date: 2/1/24.

Accession Number: 20240201-5216.

Comment Date: 5 p.m. ET 2/13/24.

Docket Numbers: RP24-384-000.

Applicants: Millennium Pipeline Company, LLC.

Description: Penalty Revenue Crediting Report of Millennium Pipeline Company LLC.

Filed Date: 2/1/24.

Accession Number: 20240201-5233.

Comment Date: 5 p.m. ET 2/13/24.

Docket Numbers: RP24-385-000.

Applicants: Rover Pipeline LLC.

Description: 4(d) Rate Filing: Summary of Negotiated Rate Capacity Release Agreements 2-2-2024 to be effective 2/1/2024.

Filed Date: 2/2/24.

Accession Number: 20240202-5036.

Comment Date: 5 p.m. ET 2/14/24.

Docket Numbers: RP24-386-000.

Applicants: Algonquin Gas Transmission, LLC.

Description: 4(d) Rate Filing: Negotiated Rates—Yankee Gas to Emera Energy eff 2-3-24 to be effective 2/3/2024.

Filed Date: 2/2/24.

Accession Number: 20240202-5085.

Comment Date: 5 p.m. ET 2/14/24.

Docket Numbers: RP24-387-000.

Applicants: Texas Gas Transmission, LLC.

Description: 4(d) Rate Filing: Amendment to Neg Rate Agmt (DTE 34937) to be effective 2/1/2024.

Filed Date: 2/2/24.

Accession Number: 20240202-5086.

Comment Date: 5 p.m. ET 2/14/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: PR24-23-001.

Applicants: CR Permian Natural Gas Transmission, LLC.

Description: Amendment Filing: CR Permian Amended SOC Filing to be effective 12/15/2023.

Filed Date: 2/2/24.

Accession Number: 20240202-5038.

Comment Date: 5 p.m. ET 2/23/24.

284.123(g) Protest: 5 p.m. ET 2/23/24.

Any person desiring to protest in any the above proceedings must file in accordance with Rule 211 of the Commission's Regulations (18 CFR 385.211) on or before 5 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: February 6, 2024.
Debbie-Anne A. Reese,
Acting Secretary.

[FR Doc. 2024-02760 Filed 2-9-24; 8:45 am]

BILLING CODE 6717-01-P